DEPARTMENT OF LABOR

Employment and Training Administration

[TA-W-59,136 and TA-W-59,136A]

Cranston Print Works Company, Design and Engraving Division, Cranston, RI, and New York, NY; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification Regarding Eligibility to Apply for Worker Adjustment Assistance and Alternative Trade Adjustment Assistance on April 21, 2006, applicable to workers of Cranston Print Works Company, Design and Engraving Division, Cranston, Rhode Island. The notice was published in the Federal Register on May 10, 2006 (71 FR 27291).

At the request of the company, the Department reviewed the certification for workers of the subject firm. The workers are engaged in the production of artwork designs used by the subject firm to engrave rotary screens for printing textile fabrics.

The company reports that worker separations occurred at the New York, New York location of the subject firm where the workers create artwork design and provide administrative support functions for the subject firm's production plant located in Cranston, Rhode Island.

Based on these findings, the Department is amending the certification to include workers of the Cranston Print Works Company, Design and Engraving Division, New York, New York.

The intent of the Department's certification is to include all workers of Cranston Print Works Company, Design and Engraving Division Thomasville Furniture Industries, Inc. who were adversely affected by increased company imports.

The amended notice applicable to TA-W-59,136 is hereby issued as follows:

All workers of Cranston Print Works Company, Design and Engraving Division, Cranston, Rhode Island (TA-W-59,136) and Cranston Print Works Company Design and Engraving Division, New York, New York (TA-W-59,136A), who became totally or partially separated from employment on or after March 6, 2005, through April 21, 2008, are eligible to apply for adjustment assistance under Section 223 of the Trade Act of 1974, and are also eligible to apply for alternative trade adjustment assistance under Section 246 of the Trade Act of 1974.

Signed at Washington, DC, this 15th day of June, 2006.
Richard Church,
Certifying Officer, Division of Trade Adjustment Assistance.

[FR Doc. E6-11094 Filed 7-13-06; 8:45 am]

BILLING CODE 4510-30-P